DEPARTMENT OF HOMELAND SECURITY

U.S. Customs and Border Protection

Air Cargo Advance Screening (ACAS) Pilot Program

Correction

In notice document 2012-26031 appearing on pages 65006-65009 in the issue of October 24, 2012 make the following correction:

On page 65007, in the first column, under the ADDRESSES heading, in the fourth line, “CBPCCS@cbpdhs.gov” should read “CBPCCS@cbp.dhs.gov”.

[FR Doc. C1-2012-26031 Filed 10-24-12; 8:45 am]

BILLING CODE 1505-01-D